DEPARTMENT OF EDUCATION

Applications for New Awards; Student Support Services Program

AGENCY: Office of Postsecondary Education, Department of Education.

ACTION: Notice.

Overview Information: Student Support Services Program (SSS Program).

Notice inviting applications for new awards for fiscal year (FY) 2015.

Catalog of Federal Domestic Assistance (CFDA) Number: 84.042A.

DATES:

Applications Available: December 18, 2014.

Deadline for Transmittal of Applications: February 2, 2015.

Deadline for Intergovernmental Review: April 2, 2015.

Full Text of Announcement

I. Funding Opportunity Description

Purpose of Program: The purpose of the SSS Program is to increase the number of disadvantaged, low-income college students, first-generation college students, and college students with disabilities in the United States who successfully complete a program of study at the postsecondary level. The support services that are provided should increase the retention and graduation rates for these categories of students and facilitate their transfer from two-year to four-year colleges and universities. The support services should also foster an institutional climate that supports the success of students who are limited English proficient, students from groups that are historically underrepresented in postsecondary education, students with disabilities, students who are homeless children and youths, students who are in foster care or are aging out of the foster care system, and other disconnected students. Student support services should also improve the financial and economic literacy of students.

Priorities: This notice contains two competitive preference priorities. Competitive Preference Priority 1(a) is from the Department's Notice of Final Supplemental Priorities and Definitions for Discretionary Grant Programs, published in the Federal Register on December 10, 2014 (79 FR 73426). Competitive Preference Priority 1(b) is from 34 CFR 75.266. In accordance with 34 CFR 75.105(b)(2)(iv), Competitive Preference Priority 2(a) is from Section 402D(c)(1) of the Higher Education Act of 1965, as amended (HEA). Competitive Preference Priority 2(b) is from 34 CFR 75.266.

Note: Applicants must include, in the one-page abstract submitted with the application, a statement indicating which, if any, of the competitive preference priorities are addressed. If the applicant has addressed the competitive preference priorities, this information must also be listed on the SSS Program Profile Form.

Competitive Preference Priorities: For FY 2015 and any subsequent year for which we make awards from the list of unfunded applicants from this competition, these priorities are competitive preference priorities. Under 34 CFR 75.105(c)(2)(i), we award up to 6 additional points to an application depending on how well the application meets these priorities.

The competitive preference priorities are:

Competitive Preference Priority 1(a)—Influencing the Development of Non-Cognitive Factors (Up to 1 Additional Point)

Background: A promising body of research suggests that non-cognitive factors can play an important role in students' academic, career, and life outcomes.¹ Non-cognitive factors include a broad range of behaviors, strategies, and attitudes, such as academic behaviors (including attendance and homework completion), academic mindsets (including a sense of belonging in the academic community and believing that academic achievement improves with effort), perseverance (including tenacity and self-discipline), social and emotional skills (including cooperation, empathy, and adaptability), and approaches toward learning strategies (such as executive functions, attention, goal-setting, curiosity, problem-solving, self-regulating learning, study skills, and the ability to work cooperatively with others).

¹ Farrington et al. (2012); National Research Council. (2012). Education for Life and Work: Developing Transferable Knowledge and Skills in the 21st Century. Committee on Defining Deeper Learning and 21st Century Skills, James W. Pellegrino and Margaret L. Hilton, Editors. Board on Testing and Assessment and Board on Science Education, Division of Behavioral and Social Sciences and Education. Washington, DC: The National Academies Press, pp. 4-5; Strobel, Karen R. (2012, May). Academic Motivation and School Engagement and their Links to Academic Achievement: A Follow up Report. Paper prepared for the William and Flora Hewlett Foundation. Palo Alto, CA: John W. Gardner Center; Stephens, N.M., Hamedani, M.G., & Destin, M. (2014). Closing the social-class achievement gap: A difference-education intervention improves first-generation students' academic performance and all students' college transition. Psychological Science. http://www.psychology.northwestern.edu/documents/destin-achievement.pdf; Walton, G.M. & Cohen, G.L. (2011). A brief social-belonging intervention improves academic and health outcomes of minority students. Science, 331, 1447-1451. http://web.stanford.edu/~gwalton/home/Publications_files/Walton_Cohen_2011_Science_1.pdf.

The development of these skills is critical during the postsecondary years as students face new academic challenges, social comparisons, and stereotypes regarding their potential for success. How students negotiate these changes has major implications for their academic futures. For example, interventions focused on academic mindset have been shown to have a measurable impact on grades and course persistence, as well as on college enrollment and completion among low-income and minority students. Studies have found that students with positive academic mindsets work harder, engage in more productive academic behaviors, and persevere to overcome obstacles to success. Conversely, students with negative mindsets about school or themselves as learners are likely to withdraw from the practices that are essential for academic success and to give up easily when they encounter setbacks or difficulty. Strategies focused on strengthening perseverance and social and emotional skills also have demonstrated positive outcomes. Ideally, over the course of their K-16 school experience, children and young adults will come to see themselves as competent, productive people who are able to contribute meaningfully to their communities and the larger world.

Through Competitive Preference Priority 1(a), the Department encourages applicants to propose strategies focused on the development of non-cognitive skills to improve postsecondary success. The Department is interested in receiving applications with strong plans to develop the non-cognitive skills of students. Applicants addressing this priority should demonstrate how their proposal will improve student outcomes.

The Department is sufficiently interested in this priority topic that we may later seek to partner with successful applicants to conduct research and evaluation.

Priority: Projects that are designed to improve students' mastery of non-cognitive skills and behaviors (such as academic behaviors, academic mindset, perseverance, self-regulation, social and emotional skills, and approaches toward learning strategies) and enhance student motivation and engagement in learning.

Competitive Preference Priority 1(b)—Strategies To Influence the Development of Non-Cognitive Factors Supported by Moderate Evidence of Effectiveness (Up to 2 Additional Points)

In recent years, the Department has placed an increasing emphasis on promoting evidence-based practices through our grant competitions. We believe that encouraging applicants to focus on proven strategies can only enhance the quality of our competitions and the outcomes of students who participate in our programs. Accordingly, for those who apply under Competitive Preference Priority 1(a), Influencing the Development of Non-cognitive Factors, we give additional competitive preference to applications that submit moderate evidence of effectiveness supporting their proposed strategy for addressing non-cognitive factors.

Priority: Projects that influence the development of non-cognitive factors using strategies that are supported by moderate evidence of effectiveness (as defined in this notice).

Note: An applicant addressing Competitive Preference Priority 1(a) can earn one point based on the extent to which their project is designed to influence the development of non-cognitive factors. Through Competitive Preference Priority 1(b), applicants can earn two additional points by demonstrating that their strategy to address non-cognitive factors is based on research that meets the moderate evidence of effectiveness standard. Applicants seeking to address Competitive Preference Priority 1(b) should identify a citation for one study that meets the definition of moderate evidence of effectiveness. Relevant studies will be reviewed to determine if they meet the definition of moderate evidence of effectiveness, including What Works Clearinghouse (WWC) standards, with or without reservations, which is necessary to fulfill the definition of moderate evidence of effectiveness. The WWC Procedures and Standards Handbook (Version 3.0, March 2014), can be found at: http://ies.ed.gov/ncee/wwc/pdf/reference_resources/wwc_procedures_v3_0_standards_handbook.pdf. Applicants may submit a citation for a study that supports the applicants' proposed strategies that has already been determined by the Department to meet the moderate evidence of effectiveness standard, or a study that has not yet been reviewed by the Department but that the applicant thinks will meet the moderate evidence of effectiveness standard. A summary of studies of non-cognitive strategies that the Department has determined meets the moderate evidence of effectiveness standard is provided in the Appendix to this Notice.

Applicants proposing strategies to improve non-cognitive outcomes should implement the intervention from their supporting study as closely as possible and describe in the narrative response to the priority how they will do so. Where modifications to the cited intervention will be made to account for student or institutional characteristics, resource limitations, or other special factors, the applicant should provide a justification or basis for the modifications in the narrative response to the priority.

The link for the citation submitted for Competitive Preference Priority 1(b) should be provided on the Abstract, as well as the SSS Program Profile Form. Applicants should specify in their narrative response to this priority the findings within the study that are cited as moderate evidence of effectiveness for the proposed strategies to address non-cognitive factors and ensure that the citation and link are from a publicly or readily available source.

Competitive Preference Priority 2(a)—Providing Individualized Counseling for Personal, Career, and Academic Matters (Up to 1 Additional Point)

Background: Through Competitive Preference Priority 2(a), the Department encourages applicants to propose strategies focused on individualized counseling, because emerging research suggests that certain kinds of such counseling can improve students' academic performance or persistence.² The Department is interested in receiving applications with strong plans to provide individualized counseling to students for personal, career, or academic matters. Applicants addressing this priority should demonstrate how their proposal will improve student outcomes. The Department is sufficiently interested in this priority topic that we may later seek to partner with successful applicants to conduct research and evaluation.

² See, for example, Bettinger, E.P., & Baker, R. (2011). The effects of student coaching in college: An evaluation of a randomized experiment in student mentoring. https://cepa.stanford.edu/sites/default/files/bettinger_baker_030711.pdf.

Priority: Projects that will provide individualized counseling for personal, career, and academic matters by assigned counselors.

Competitive Preference Priority 2(b)--Individual Counseling Activities Based on Moderate Evidence of Effectiveness (2 Additional Points)

Background: In recent years, the Department has placed an increasing emphasis on promoting evidence-based practices through our grant competitions. We believe that encouraging applicants to focus on proven strategies can only enhance the quality of our competitions and the outcomes of students who participate in our programs. Accordingly, for those who apply under Competitive Preference Priority 2(a), Providing Individualized Counseling for Personal, Career, and Academic Matters, we give additional competitive preference to applications that submit moderate evidence of effectiveness supporting their proposed strategy for providing individualized counseling.

Priority: Projects that provide individualized counseling using strategies supported by moderate evidence of effectiveness (as defined in this notice).

Note: An applicant addressing Competitive Preference Priority 2(a) can earn one point based on the extent to which their project is designed to provide individualized counseling. Through Competitive Preference Priority 2(b), applicants can earn two additional points by demonstrating that their individualized counseling strategies are based on research that meets the moderate evidence of effectiveness standard. Applicants seeking to address Competitive Preference Priority 2(b) should identify a citation for one study that meets the definition of moderate evidence of effectiveness. Relevant studies will be reviewed to determine if they meet the definition of moderate evidence of effectiveness, including WWC standards, with or without reservations, which is necessary to fulfill the definition of moderate evidence of effectiveness. The WWC Procedures and Standards Handbook. The WWC Procedures and Standards Handbook (Version 3.0, March 2014), can be found at: http://ies.ed.gov/ncee/wwc/pdf/reference_resources/wwc_procedures_v3_0_standards_handbook.pdf. Applicants may submit a citation for a study that supports the applicants' proposed strategies that has already been determined by the Department to meet the moderate evidence of effectiveness standard, or a study that has not yet been reviewed by the Department but that the applicant thinks will meet the moderate evidence of effectiveness standard. A summary of studies of individualized counseling strategies that the Department has already determined meets the moderate evidence of effectiveness standard is provided in the Appendix to this Notice.

Applicants' proposed individualized counseling strategies should implement the intervention described from their supporting study as closely as possible and describe in the narrative response to the priority how they will do so. Where modifications to the cited intervention will be made to account for student or institutional characteristics, resource limitations, or other special factors, the applicant should provide a justification or basis for the modifications in the narrative response to the priority.

The link for the citation submitted for Competitive Preference Priority 2(b) should be provided on the Abstract, as well as the SSS Program Profile Form. Applicants should specify in their narrative response to this priority the findings within the study that are cited as moderate evidence of effectiveness for the proposed strategies to provide individualized counseling intervention and ensure that the citation and link are from a publicly or readily available source.

Definitions: These definitions are from the Notice of Final Supplemental Priorities and Definitions for Discretionary Grant Programs, published in the Federal Register on December 10, 2014 (79 FR 73426) and from 34 CFR 77.1.

Moderate evidence of effectiveness means one of the following conditions is met:

(i) There is at least one study of the effectiveness of the process, product, strategy, or practice being proposed that meets the WWC Evidence Standards without reservations,³ found a statistically significant favorable impact on a relevant outcome (with no statistically significant and overriding unfavorable impacts on that outcome for relevant populations in the study or in other studies of the intervention reviewed by and reported on by the WWC), and includes a sample that overlaps with the populations or settings proposed to receive the process, product, strategy, or practice.

³ The What Works Clearinghouse Procedures and Standards Handbook (Version 3.0, March 2014), can be found at: http://ies.ed.gov/ncee/wwc/pdf/reference_resources/wwc_procedures_v3_0_standards_handbook.pdf.

(ii) There is at least one study of the effectiveness of the process, product, strategy, or practice being proposed that meets the WWC Evidence Standards with reservations,⁴ found a statistically significant favorable impact on a relevant outcome (with no statistically significant and overriding unfavorable impacts on that outcome for relevant populations in the study or in other studies of the intervention reviewed by and reported on by the WWC), includes a sample that overlaps with the populations or settings proposed to receive the process, product, strategy, or practice, and includes a large sample and a multi-site sample (Note: Multiple studies can cumulatively meet the large and multi-site sample requirements as long as each study meets the other requirements in this paragraph).

⁴ Id.

Quasi-experimental design study means a study using a design that attempts to approximate an experimental design by identifying a comparison group that is similar to the treatment group in important respects. These studies, depending on design and implementation, can meet WWC Evidence Standards with reservations ⁵ (they cannot meet WWC Evidence Standards without reservations).

⁵ Id.

Randomized controlled trial means a study that employs random assignment of, for example, students, teachers, classrooms, schools, or districts to receive the intervention being evaluated (the treatment group) or not to receive the intervention (the control group). The estimated effectiveness of the intervention is the difference between the average outcome for the treatment group and for the control group. These studies, depending on design and implementation, can meet WWC Evidence Standards without reservations.⁶

⁶ Id.

Program Authority: 20 U.S.C. 1070a-11 and 20 U.S.C. 1070a-14.

Applicable Regulations: This NIA is being published before the Department adopts the Uniform Administrative Requirements, Cost Principles, and Audit Requirements in 2 CFR part 200. We expect to publish interim final regulations that would adopt those requirements before December 26, 2014, and make those regulations effective on that date. Because grants awarded under this NIA will likely be made after ED adopts the requirements in 2 CFR part 200, we list as applicable regulations both those that are currently effective and those that will be effective at the time ED makes grants.

The current regulations follow: (a) The Education Department General Administrative Regulations (EDGAR) in 34 CFR parts 74, 75, 77, 79, 80, 82, 84, 86, 97, 98, and 99. (b) The Education Department debarment and suspension regulations in 2 CFR part 3485.

At the time we award grants under this NIA, the following regulations will apply: (a) The Education Department General Administrative Regulations (EDGAR) in 34 CFR parts 75, 77, 79, 82, 84, 86, 97, 98, and 99. (b) The Education Department debarment and suspension regulations as adopted in 2 CFR part 3485 and the Uniform Administrative Requirements, Cost Principles, and Audit Requirements for Federal Awards as adopted in 2 CFR part 3474.

Regardless of the timing of publication, the following also apply to this NIA: (a) The regulations for this program in 34 CFR part 646 and (b) the notice of final supplemental priorities and definitions for discretionary grant programs, published in the Federal Register on December 15, 2014 (79 FR 73426).

Note: The regulations in 34 CFR part 79 apply to all applicants except federally recognized Indian tribes.

Note: The regulations in 34 CFR part 86 apply to institutions of higher education only.

II. Award Information

Type of Award: Discretionary grants.

Estimated Available Funds: The Administration has requested $838,252,000 for the Federal TRIO Programs for FY 2015, of which we intend to use an estimated $265,706,546 for new SSS awards under this competition and $23,966,448 for continuation awards to current SSS grantees. The actual level of funding, if any, depends on final congressional action. However, we are inviting applications to allow enough time to complete the grant process if Congress appropriates funds for the Federal TRIO Programs. Contingent upon the availability of funds and the quality of applications, we may make additional awards in FY 2016 from the list of unfunded applicants from this competition.

Estimated Range of Awards: $220,000-$360,000.

Estimated Average Size of Awards: $282,000.

Maximum Award: We will reject any application that proposes a budget exceeding the maximum amount listed for a single budget period of 12 months. The Assistant Secretary for Postsecondary Education may change the maximum award amount through a notice published in the Federal Register.

For Applicants Not Currently Receiving a SSS Program Grant
Type of project | Maximum amount *
Regular SSS Project Serving a Minimum of 140 Student Participants | $220,000
Regular SSS Project Serving a Minimum of 100 Student Participants with Disabilities | 220,000
English as a Second Language (ESL) SSS Project Serving a Minimum of 140 Student Participants | 220,000
Science, Technology, Engineering and Mathematics (STEM) and Health Science SSS Project Serving a Minimum of 120 Student Participants | 220,000
Teacher Preparation SSS Project Serving a Minimum of 140 Student Participants | 220,000
Veterans SSS Project Serving a Minimum of 120 Student Participants | 220,000
* Note: For applicants proposing to serve fewer than the minimum number of student participants specified in the above table, the maximum award amount that may be requested is an amount equal to: $1,571 per student participant for Regular, ESL, and Teacher Preparation projects; $2,200 per student participant for Disabled projects; $1,833 per student participant for STEM (including Health Science) and Veterans projects.

For Applicants Currently Receiving a SSS Program Grant

The maximum award amount is the greater of: (a) $220,000 or (b) 100 percent of the applicant's base award amount for FY 2012.

For any currently funded applicant that proposes to serve fewer students than it served in FY 2012, the maximum award amount that may be requested is the amount that corresponds with the cost per participant previously established for the project in FY 2012.

Note: For an applicant currently receiving an individual SSS Program grant that has merged into another IHE that is also receiving an individual SSS Program grant, the maximum award amount for the applicant (the merged institution) is 100 percent of the combined FY 2012 base grant award amounts for both institutions. For grantees that have merged, the applicant must propose to serve the combined number it served in FY 2012.

Estimated Number of New Awards: 1,026.

Note: The Department is not bound by any estimates in this notice.

Project Period: Up to 60 months.

III. Eligibility Information

1. Eligible Applicants: Institutions of higher education or combinations of institutions of higher education.

2. Cost Sharing or Matching: Section 402D(d)(4) of the HEA requires that all successful applicants that use SSS Program funds to provide grant aid to students pursuant to section 402D(d)(1) of the HEA must provide matching funds, in cash, from non-Federal funds, in an amount that is not less than 33 percent of the total amount of the SSS Program funds used for this aid. This matching requirement does not apply to a grant recipient that is an IHE eligible to receive funds under Part A or Part B of Title III or under Title V of the HEA.

3. Other: An applicant may submit multiple applications if each separate application describes a project that will serve a different campus or a different population (Section 402(c)(5)of the HEA). Under section 402A(h)(1) of the HEA, the term “different campus” means a site of an IHE that—(1) is geographically apart from the main campus of the institution; (2) is permanent in nature and (3) offers courses in educational programs leading to a degree, certificate, or other recognized educational credential (Section 402(h)(1)of the HEA).

Under section 402A(h)(2) of the HEA, the term “different population” means a group of individuals that an eligible entity desires to serve through an SSS grant that is separate and distinct from any other population that the entity has applied to serve using Federal TRIO Program funds, or, while sharing some of the same needs as another population that the eligible entity has applied to serve using Federal TRIO Program funds, has distinct needs for specialized services. To implement the requirement in Section 402(h)(2) of the HEA for this competition, the Secretary is designating the populations to be served as: Participants who meet the specific requirements for SSS services (“regular SSS grants”), participants with disabilities (“disabled grants”), participants who need ESL services (“ESL grants”), participants receiving services in the STEM fields (“STEM grants”), participants receiving Teacher Preparation Services (“Teacher Preparation grants”), and participants who have served in the armed forces (“Veterans grants”). These different populations need different types of services. Accordingly, the Secretary has determined that projects serving these different populations should be subject to different standards for the minimum number of participants. An applicant may submit more than one application as long as each application proposes to serve a different population. Any applicant that submits more than one application must explain why the different population of participants cannot be served by the project in the applicant's other application(s). For project types other than a regular SSS project, an applicant must propose to serve 100% of the students in the specific project type.

IV. Application and Submission Information

1. Address to Request Application Package: ReShone Moore, Ph.D., U.S. Department of Education, 1990 K Street NW., Room 7000, Washington, DC 20006-8510. Telephone: (202) 502-7893 or by email: reshone.moore@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2. Content and Form of Application Submission:Requirements concerning the content of an application, together with the forms you must submit, are in the application package for this program. Page Limit: The application narrative is where you, the applicant, address the selection criteria that reviewers use to evaluate your application. You must limit the project narrative (Part III), which includes the budget narrative, to no more than 65 pages, using the following standards. However, any application addressing the competitive preference priorities may include up to four additional pages for each subpart of each of these priorities (1(a) and 1(b) and 2(a) and 2(b)), if addressed. Those 16 additional pages, eight total for each priority must be used to discuss how the application meets the competitive preference priority. The additional pages allotted to address priorities cannot be used for or transferred to the project narrative or any section of the application.

Note: For the purpose of determining compliance with the page limit, each page on which there is text or graphics will be counted as one full page.

• A “page” is 8.5″ x 11″, on one side only, with 1″ margins at the top, bottom, and both sides. Page numbers and an identifier may be within the 1” margin.

• Double space (no more than three lines per vertical inch) all text in the project narrative.

• Single space is appropriate for titles, headings, footnotes, quotations, references, and captions, as well as all text in figures, charts and graphs.

• You should also include a table of contents in the project narrative, which will not be counted toward the page limit.

• Use a font that is either 12 point or larger, or no smaller than 10 pitch (characters per inch).

• Use one of the following fonts: Times New Roman, Courier, Courier New, or Arial. An application submitted in any other font (including Times Roman and Arial Narrow) will not be accepted.

The page limit does not apply to Part I—the Application for Federal Assistance face sheet (SF 424); Part II—the Budget Information Summary form (ED Form 524); Part III-A—the SSS Program Profile Form; Part III-B—the one-page Project Abstract form; and Part IV—the Assurances and Certifications. If you include any attachments or appendices, these items will be counted as part of Part III—the Project Narrative for the purpose of the page-limit requirement. You must include your complete response to the selection criteria and priorities in Part III—the Project Narrative.

We will reject your application if you exceed the page limit, or if you apply other standards and exceed the equivalent of the page limit.

3. Submission Dates and Times:

Applications Available: December 18, 2014.

Deadline for Transmittal of Applications: February 2, 2015.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact one of the program contact persons listed under For Further Information Contact in ssection VII of this notice. If the Department provides an accommodation or auxiliary aid to an individual with a disability in connection with the application process, the individual's application remains subject to all other requirements and limitations in this notice.

Deadline for Intergovernmental Review: April 2, 2015.

4. Intergovernmental Review: This program is subject to Executive Order 12372 and the regulations in 34 CFR part 79. Information about Intergovernmental Review of Federal Programs under Executive Order 12372 is in the application package for this program.

5. Funding Restrictions: We specify unallowable costs in 34 CFR 646.31. We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov. and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program must be submitted electronically unless you qualify for an exception to this requirement in accordance with the instructions in this section.

a. Electronic Submission of Applications.

Applications for grants under the SSS Program, CFDA Number 84.042A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Student Support Services Program at www.Grants.gov. You must search for the downloadable application package for this program by the CFDA number. Do not include the CFDA number's alpha suffix in your search (e.g., search for 84.042, not 84.042A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document Format) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact one of the program contact persons listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days; or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Eileen S. Bland, U.S. Department of Education, 1990 K Street NW., Room 7000, Washington, DC 20006-8510. FAX: (202) 502-7857.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.042A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.042A), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are in 34 CFR 646.21 and are listed in the application package.

Note: Under the “Objectives” selection criterion, 34 CFR 646.21(b), worth eight (8) points, applicants must address the standardized objectives in 34 CFR 646.21(b)(1) through (4) related to the participants' academic achievements, including retention, good academic standing, graduation, and transfer rates. The graduation objective should be measured by cohorts of students who become SSS Program participants in each year of the project and should be compared to a relevant and valid comparison group. The graduation, certificate, and transfer rates for two-year institutions should be measured over a four-year period and that of four-year institutions should be measured over a six-year period.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

For this competition, a panel of non-Federal reviewers will review each application in accordance with the selection criteria in 34 CFR 646.21. The individual scores of the reviewers will be added and the sum divided by the number of reviewers to determine the peer review score received in the review process. Additionally, in accordance with 34 CFR 646.22, the Secretary will award prior experience points to applicants that have conducted a SSS Program project within the last three Federal government fiscal years, based on their documented experience. Prior experience points, if any, will be added to the application's averaged reader score to determine the total score for each application. Of the applications that address competitive preference priorities 1(b) and 2(b), highly rated applications from the review process, which at a minimum will include those whose funding outcomes could be affected by the awarding of points under competitive preference priorities 1(b) and 2(b), will then have their supporting studies reviewed to determine if the cited studies submitted by the applicant meet the Moderate Evidence of Effectiveness standard and are relevant to the proposed strategies to address non-cognitive factors and/or individualized counseling under competitive preference priorities 1(a) and 2(a).

If there are insufficient funds for all applications with the same total scores, the Secretary will choose among the tied applications so as to serve geographical areas that have been underserved by the SSS Program.

3. Special Conditions: Under current 34 CFR 74.14 and 80.12 and, when grants are made under this NIA, 2 CFR 3574.10, the Secretary may impose specific conditions and, in appropriate circumstances, high risk conditions on a grant if the applicant or grantee is not financially stable; has a history of unsatisfactory performance; has a financial or other management system that does not meet the standards in 34 CFR parts 74 or 80, as applicable or, when grants are awarded, the standards in 2 CFR part 200, subpart D; has not fulfilled the conditions of a prior grant; or is otherwise not responsible.

V. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The success of the SSS Program is measured by the percentage of SSS participants that complete a program of postsecondary education. The following performance measures have been developed to track progress toward achieving program success:

1. The percentage of SSS Program participants who are still enrolled at the beginning of the next academic year or have earned a degree at the grantee institution or transferred from a two-year to a four-year institution.

2. The percentage of first-time college students served by the SSS Program who graduate from the grantee institution on time—within four years for the bachelor's degree and within two years for the associate's degree.

3. The percentage of SSS participants taking one or more remedial course(s) who attain an associate's degree or transfer from a two-year to a four-year institution within three years or graduate with a bachelor's degree within five years from the grantee institution.

4. The cost per successful outcome.

All SSS Program grantees are required to submit an annual performance report documenting the persistence and degree attainment of their participants. Since students take different amounts of time to complete their degrees, multiple years of performance report data are needed to determine the degree completion rates of SSS Program participants. The Department will aggregate the data provided in the annual performance reports from all grantees to determine the overall program accomplishment level.

5. Continuation Awards: In making a continuation award, the Secretary may consider, under 34 CFR 75.253, the extent to which a grantee has made substantial progress toward meeting the objectives in its approved application. This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VI. Agency Contacts

FOR FURTHER INFORMATION CONTACT: ReShone Moore, Ph.D., U.S. Department of Education, 1990 K Street NW., Room 7000, Washington, DC 20006-8510. Telephone: (202) 502-7893 or by email: reshone.moore@ed.gov or, if unavailable, Lavelle Wright, U.S. Department of Education, 1990 K Street NW., Room 7000, Washington, DC 20006-8510. Telephone: (202) 502-7674 or by email: Lavelle.wright@ed.gov.

If you use a TDD or a TTY, call the FRS, toll free, at 1-800-877-8339.

VII. Other Information

Accessible Format: Individuals with disabilities can obtain this document and a copy of the application package in an accessible format (e.g., braille, large print, audiotape, or compact disc) on request to one of the program contact persons listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Dated: December 16, 2014.
Lynn B. Mahaffie,
Acting Assistant Secretary for Postsecondary Education.

Appendix

Summaries of Relevant Studies Reviewed by the Department and That Meet the Standard for Moderate Evidence of Effectiveness

Strategies To Develop Non-Cognitive Factors

Walton, G.M. & Cohen, G.L. (2011). A brief social-belonging intervention improves academic and health outcomes of minority students. Science, 331, 1447-1451. http://web.stanford.edu/~gwalton/home/Publications_files/Walton_Cohen_2011_Science_1.pdf.

This study examined the effects of a series of connected activities, together lasting about an hour, that aimed to strengthen college freshmen's sense of social belonging and academic performance. First, the freshmen were given a narrative that described social adversity as an experience common to students from different racial-ethnic and gender groups and short lived during the college-adjustment process. Second, they read a survey report describing how older students of different racial-ethnicity and gender backgrounds overcame their freshmen year worries about whether they belonged in college. Finally, to encourage the “saying is believing” phenomenon, the freshmen were asked to write an essay about and video-record how their experiences in college were similar to those described in the survey report.

The combination of activities had a positive impact on the grade point averages (GPA) of African-American students (though not white students) in the years afterwards, tripling the percentage of African American students earning GPAs in the top 25 percent of their class and reducing the percentage performing in the bottom 25 percent. Three years after the intervention, at the end of their time in college, participating African American students reported less belonging uncertainty, self-doubt, and tendency to associate their college experiences to racial stereotypes.

Stephens, N.M., Hamedani, M.G., & Destin, M. (2014). Closing the social-class achievement gap: A difference-education intervention improves first-generation students' academic performance and all students' college transition. Psychological Science. http://www.psychology.northwestern.edu/documents/destin-achievement.pdf.

Researchers investigated the impact of attending a moderated panel discussion for incoming freshmen on their adjustment to college. The panel featured demographically diverse college seniors who responded to questions about their experience of and adjustment to college. All incoming first-generation college students in this study, students whose parents did not have 4-year college degrees, and a sample of incoming non-first-generation college students were invited to participate in the study.

Students attended one of eight moderated panel discussions, all featuring the same panel of eight demographically diverse college seniors (three were first generation, five were non-first generation). Panelists were instructed to respond to questions differently depending upon the group of students in attendance. For the students in the intervention group, the panelists' responses illustrated how their social class backgrounds both positively and negatively shaped their college experiences and influenced the strategies they adopted for success in college. For students in the comparison group, the panelists' stories included general content and did not highlight the students' different backgrounds. After the panel, all students were invited to complete a survey and create a video testimonial about the panel's main teachings.

At the end of their freshman year, the mean GPA of first-generation students receiving the intervention was 3.47 in comparison to 3.17 for first-generation students that did not receive the intervention.

Strategies To Provide Individualized Counseling

Bettinger, E.P., & Baker, R. (2011). The effects of student coaching in college: An evaluation of a randomized experiment in student mentoring. https://cepa.stanford.edu/sites/default/files/bettinger_baker_030711.pdf.

This study examined whether InsideTrack, a personalized student coaching service for college students, increased rates of staying in and graduating from college. Each participating institution selected potential students to participate based on their own criteria (e.g. full-time or part-time, new students or upperclassmen, etc.).

Coaches contacted students via phone, email, text messages, and social networking sites over the course of two semesters to identify strategies for overcoming barriers to academic success. Coaches used predictive algorithms that took into account students' constraints inside and outside of school (e.g. personal time commitments, primary caregiving responsibilities, and financial obligations) to guide and personalize conversations with students. Potential students were randomly assigned to receive InsideTrack and compared to similar students who did not receive additional services.

The study found that students assigned to receive InsideTrack were significantly more likely than students in the comparison group to remain enrolled at their institutions. After six months, 81 percent of students who received InsideTrack were still enrolled, compared to 77 percent of students who did not. The proportions enrolled were 66 percent and 51 percent, respectively, after 12 months and 44 percent and 37 percent after 18 months.

[FR Doc. 2014-29769 Filed 12-17-14; 8:45 am]

BILLING CODE 4000-01-P